DEPARTMENT OF ENERGY

Federal Energy Regulatory Commission

[Project No. 13226-000]

Blue Heron Hydro, LLC; Notice of Preliminary Permit Application Accepted for Filing and Soliciting Comment, Motions To Intervene, and Competing Applications

July 24, 2008.

On May 8, 2008, Blue Heron Hydro, LLC filed an application, pursuant to section 4(f) of the Federal Power Act, proposing to study the feasibility of the Ball Mountain Dam Hydroelectric Project, which would be located near the town of Jamaica on the West River at the existing U.S. Army Corps of Engineers' Ball Mountain Dam and Reservoir in Windham County, Vermont. The proposed project would utilize federal lands.

The proposed Ball Mountain Dam Hydroelectric Project would utilize U.S. Army Corps of Engineers' Ball Mountain Dam and would consist of the following new facilities: (1) An 80-foot-long, 11.5-foot-wide steel penstock, (2) a powerhouse containing 3 generating units with a total installed capacity of 3.7 MW, (3) a 2,500-foot-long, 12.5 kV underground transmission line, connecting to an existing power line; and (4) appurtenant facilities. The project would have an annual generation of 12.1 gigawatts-hours, which would be sold to a local utility.

Applicant Contact: Ms. Lori Barg, Blue Heron Hydro, LLC, 113 Bartlett Rd., Plainfield, VT 05667; phone: (802) 454-8458. FERC Contact: Tom Papsidero, (202) 502-6002.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13226) in the docket number field to access the document. For assistance, call toll-free 1-866-208-3372.

Kimberly D. Bose,
Secretary.

[FR Doc. E8-17495 Filed 7-30-08; 8:45 am]

BILLING CODE 6717-01-P